DEPARTMENT OF TRANSPORTATION

Office of the Secretary of Transportation

[DOT-OST-2023-0048]

USDOT Fiscal Year 2023 Safe Streets and Roads for All Funding

AGENCY: Office of the Secretary of Transportation, U.S. Department of Transportation (DOT or the Department).

ACTION: Notice of funding opportunity (NOFO), assistance listing # 20.939.

SUMMARY: The purpose of this notice is to solicit applications for Safe Streets and Roads for All (SS4A) grants. Funds for the fiscal year (FY) 2023 SS4A grant program are to be awarded on a competitive basis to support planning, infrastructure, behavioral, and operational initiatives to prevent death and serious injury on roads and streets involving all roadway users, including pedestrians; bicyclists; public transportation, personal conveyance, and micromobility users; motorists; and commercial vehicle operators.

DATES: Applications must be submitted by 5:00 p.m. EDT on Monday, July 10, 2023. Late applications will not be accepted.

ADDRESSES: Applications must be submitted via Valid Eval, an online submission proposal system used by USDOT, at https://usg.valideval.com/teams/usdot_ss4a_2023_implementation/signup for Implementation Grant applicants, and https://usg.valideval.com/teams/usdot_ss4a_2023_planning_demo/signup for Planning and Demonstration Grants. Customer support for Valid Eval can be reached at support@valideval.com.

FOR FURTHER INFORMATION CONTACT: Please contact the SS4A grant program staff via email at SS4A@dot.gov, or call Paul Teicher at 202-366-4114. A telecommunications device for the deaf (TDD) is available at 202-366-3993. In addition, DOT will regularly post answers to questions and requests for clarifications, as well as schedule information regarding webinars providing additional guidance, on DOT's website at https://www.transportation.gov/grants/SS4A. The deadline to submit technical questions is June 16, 2023. The NOFO is listed under opportunity number DOT-SS4A-FY23-01 at grants.gov.

SUPPLEMENTARY INFORMATION: Each section of this notice contains information and instructions relevant to the application process for SS4A grants, and all applicants should read this notice in its entirety so that they have the information they need to submit eligible and competitive applications.

Section | Content
N/A | Summary Information.
A | Program Description.
B | Federal Award Information.
C | Eligibility Information.
D | Application and Submission Information.
E | Application Review Information.
F | Federal Award Administration Information.
G | Federal Awarding Agency Contacts.
H | Other Information.

Signed in Washington, DC, April 7, 2023.
Christopher Coes,
Assistant Secretary for Transportation Policy.

Section A (Program Description) describes the Department's goals and purpose in making awards, and Section E (Application Review Information) describes how the Department will select from eligible applications. To support applicants through the process, the Department will provide technical assistance and resources at https://www.transportation.gov/grants/SS4A.

Definitions
Term | Definition
Applicant's Jurisdiction(s) | The U.S. Census tract/tracts where the applicant operates or performs their safety responsibilities. If an applicant is seeking funding for multiple jurisdictions, all of the relevant Census tracts for the jurisdictions covered by the application should be included.
Complete Streets | Standards or policies that ensure the safe and adequate accommodation of all users of the transportation system, including pedestrians, bicyclists, personal conveyance and micromobility users, public transportation users, children, older individuals, individuals with disabilities, motorists, and freight vehicles.¹
Comprehensive Safety Action Plan | A comprehensive safety action plan (referred to as an Action Plan) is aimed at preventing roadway fatalities and serious injuries in a locality or region or on Tribal land. This can be either a plan developed with a Planning and Demonstration Grant, or a previously developed plan that is substantially similar and meets the eligibility requirements (e.g., a Vision Zero plan or similar plan). See Table 1 for a detailed description.
Equity | The consistent and systematic fair, just, and impartial treatment of all individuals, including individuals who belong to underserved communities that have been denied such treatment, such as Black, Latino, Indigenous and Native Americans, Asian Americans and Pacific Islanders, and other persons of color; members of religious minorities; lesbian, gay, bisexual, transgender, and queer (LGBTQ+) persons; persons with disabilities; persons who live in rural areas; and persons otherwise adversely affected by persistent poverty or inequality.
High-Injury Network | Identifies the highest concentrations of traffic crashes resulting in serious injuries and fatalities within a given roadway network or jurisdiction.
Micromobility | Any small, low-speed, human- or electric-powered transportation device, including bicycles, scooters, electric-assist bicycles, electric scooters (e-scooters), and other small, lightweight, wheeled conveyances.²
Personal Conveyance | A personal conveyance is a device, other than a transport device, used by a pedestrian for personal mobility assistance or recreation. These devices can be motorized or human powered, but not propelled by pedaling (e.g., a wheelchair).³
Political Subdivision of a State | A unit of government created under the authority of State law. This includes cities, towns, counties, special districts, certain transit agencies, and similar units of local government. A transit district, authority, or public benefit corporation is eligible if it was created under State law, including transit authorities operated by political subdivisions of a State.
Rural | For the purposes of this NOFO, jurisdictions outside an Urban Area (UA) or located within Urban Areas with populations fewer than 200,000 will be considered rural. Lists of UAs are available on the U.S. Census Bureau website at https://www2.census.gov/geo/docs/reference/ua/2020_Census_ua_list_all.xlsx.
Safe System Approach | A guiding principle to address the safety of all road users. It involves a paradigm shift to improve safety culture, increase collaboration across all safety stakeholders, and refocus transportation system design and operation on anticipating human mistakes and lessening impact forces to reduce crash severity and save lives.⁴ ⁵
Underserved Community | An underserved community as defined for this NOFO is consistent with the Office of Management and Budget (OMB) and DOT definitions of a disadvantaged community designation, which includes any Tribal land; any territory or possession of the United States; or U.S. Census tracts identified in one of the following tools (may only select one option to identify underserved communities): • The interim USDOT Equitable Transportation Community Explorer (ETCE) https://experience.arcgis.com/experience/0920984aa80a4362b8778d779b090723/page/Applicant-Explorer/. • Any subsequent iterations of the ETCE released during the NOFO period; or • The Climate and Economic Justice Screening Tool (CEJST) to identify disadvantaged communities https://screeningtool.geoplatform.gov/. Funds to underserved communities are spent in, and provide benefits to, underserved communities.
¹ The definition is based on the “Moving to a Complete Streets Design Model: A Report to Congress on Opportunities and Challenges,” https://highways.dot.gov/sites/fhwa.dot.gov/files/2022-03/Complete%20Streets%20Report%20to%20Congress.pdf. Also see https://highways.dot.gov/complete-streets.
² Source: FHWA, Public Roads Magazine, Spring 2021, “Micromobility: A Travel Innovation.” Publication Number: FHWA-HRT-21-003.
³ https://crashstats.nhtsa.dot.gov/Api/Public/ViewPublication/813251, see page 127 for the full definition as defined in the 2020 FARS/CRSS Coding and Validation Manual.
⁴ See: https://www.transportation.gov/NRSS/SafeSystem.
⁵ Safety culture can be defined as the shared values, actions, and behaviors that demonstrate a commitment to safety over competing goals and demands.

A. Program Description

1. Overview

Section 24112 of the Infrastructure Investment and Jobs Act (Pub. L. 117-58, November 15, 2021; also referred to as the “Bipartisan Infrastructure Law” or “BIL”) authorized and appropriated $1 billion to be awarded by the Department of Transportation for FY 2023 for the SS4A grant program. This NOFO solicits applications for activities to be funded under the SS4A grant program. The FY 2023 funding will be implemented, as appropriate and consistent with law, in alignment with the priorities in Executive Order 14052, Implementation of the Infrastructure Investment and Jobs Act (86 FR 64355).

The purpose of SS4A grants is to improve roadway safety by significantly reducing or eliminating roadway fatalities and serious injuries through safety action plan development and refinement and implementation focused on all users, including pedestrians, bicyclists, public transportation users, motorists, personal conveyance and micromobility users, and commercial vehicle operators. The program provides funding to develop the tools to help strengthen a community's approach to roadway safety and save lives and is designed to meet the needs of diverse local, Tribal, and regional communities that differ dramatically in size, location, and experience administering Federal funding.

The FY 2023 NOFO incorporates lessons learned from the FY 2022 NOFO, and substantively differs in a few ways:

• Applications are submitted through Valid Eval instead of Grants.gov. The application structure for the key information table and other application submission details has been standardized through Valid Eval.

• Updated the definition of an underserved community, with different tools to determine whether a U.S. Census tract is an underserved community.

• Planning and Demonstration Grants replaced Action Plan Grants from FY 2022, with a number of substantive changes throughout the NOFO:

○ Section A further clarifies eligible planning and demonstration activities;

○ Section B.3 changed the expected minimum and maximum award range to $100,000 to $10 million;

○ Section B.4 has a longer expected period of performance under certain circumstances;

○ Section C.3 has changed eligibility requirements and allows applicants currently developing a comprehensive safety action plan to request additional funding for planning and demonstration; and

○ Section E has a revised selection criteria requirement for the “Additional Safety Context” narrative, which is now expected to be between 1 and 2 pages.

• Implementation Grants had the following substantive changes:

○ Section B.3 changed the expected minimum and maximum award range to $2.5 million to $25 million;

○ Section E selection criteria were refined, and a fifth selection criterion specifically for applicants who bundle planning and supplemental planning was added; and

○ Section E award selection considerations were expanded to include rural areas, whether the applicant is identified as a priority community within the Federal Thriving Communities Network, requests less than $10 million, and selections that support diversity amongst the award recipients, in addition to project readiness and percent of funds to underserved communities.

2. Grant Options and Deliverables

The SS4A program provides funding for two main types of grants: Planning and Demonstration Grants for comprehensive safety action plans, including supplemental safety planning, and/or safety demonstration activities; and Implementation Grants. Planning and Demonstration Grants are used to develop, complete, or supplement a comprehensive safety action plan, as well as carry out demonstration activities that inform an Action Plan. Implementation Grants are used to implement strategies or projects that are consistent with an existing Action Plan and may also bundle funding requests for supplemental planning and demonstration activities that inform an Action Plan. To apply for an Implementation Grant, an eligible applicant must have a qualifying Action Plan; see Section C for what constitutes a qualifying Action Plan. Applicants for Implementation Grants can self-certify that they have one or more plans in place by June 2023 that together are substantially similar to and meet the eligibility requirements for an Action Plan.

i. Planning and Demonstration Grants

Planning and Demonstration Grants have three different types of activities:

(a) Develop an Action Plan;

(b) Conduct supplemental safety planning to enhance an Action Plan; and

(c) Carry out demonstration activities to inform the development of, or an update to, an Action Plan.

The three different types of activities under Planning and Demonstration Grants can either be bundled together into one application, or an applicant may choose to request funding for only one of the activities. Applicants may only apply for a single grant type, but both grant types have the option to include Planning and Demonstration projects under them. The development of, or updates to, an Action Plan must be the intended end result of each supplemental planning and demonstration activity. Further information on which activities can be bundled together are described in Section C.3.i.

(a) Action Plan

An Action Plan is the foundation of the SS4A grant program. Grants for Action Plans provide Federal funds to eligible applicants to develop, complete, or enhance an Action Plan.

The primary deliverable is a publicly available Action Plan. For the purposes of the SS4A grant program, an Action Plan includes the components in Table 1. DOT considers the process of developing an Action Plan to be critical for success, and the components reflect a process-oriented set of activities.

Table 1—Action Plan Components
Component | Description
Leadership Commitment and Goal Setting | An official public commitment (e.g., resolution, policy, ordinance) by a high-ranking official and/or governing body (e.g., Mayor, City Council, Tribal Council, metropolitan planning organization [MPO], Policy Board) to an eventual goal of zero roadway fatalities and serious injuries. The commitment must include a goal and timeline for eliminating roadway fatalities and serious injuries achieved through one, or both, of the following: (1) the target date for achieving zero roadway fatalities and serious injuries, OR (2) an ambitious percentage reduction of roadway fatalities and serious injuries by a specific date with an eventual goal of eliminating roadway fatalities and serious injuries.
Planning Structure | A committee, task force, implementation group, or similar body charged with oversight of the Action Plan development, implementation, and monitoring.
Safety Analysis | Analysis of existing conditions and historical trends that provides a baseline level of crashes involving fatalities and serious injuries across a jurisdiction, locality, Tribe, or region. Includes an analysis of locations where there are crashes and the severity of the crashes, as well as contributing factors and crash types by relevant road users (motorists, pedestrians, transit users, etc.). Analysis of systemic and specific safety needs is also performed, as needed (e.g., high-risk road features, specific safety needs of relevant road users, public health approaches, analysis of the built environment, demographics, and structural issues). To the extent practical, the analysis should include all roadways within the jurisdiction, without regard for ownership. Based on the analysis performed, a geospatial identification of higher-risk locations is developed (a High-Injury Network or equivalent).
Engagement and Collaboration | Robust engagement with the public and relevant stakeholders, including the private sector and community groups, that allows for both community representation and feedback. Information received from engagement and collaboration is analyzed and incorporated into the Action Plan. Overlapping jurisdictions are included in the process. Plans and processes are coordinated and aligned with other governmental plans and planning processes to the extent practicable.
Equity Considerations | Plan development using inclusive and representative processes. Underserved communities are identified through data and other analyses in collaboration with appropriate partners. Analysis includes both population characteristics and initial equity impact assessments of the proposed projects and strategies.
Policy and Process Changes | Assessment of current policies, plans, guidelines, and/or standards (e.g., manuals) to identify opportunities to improve how processes prioritize transportation safety. The Action Plan discusses implementation through the adoption of revised or new policies, guidelines, and/or standards, as appropriate.
Strategy and Project Selections | Identification of a comprehensive set of projects and strategies—shaped by data, the best available evidence and noteworthy practices, and stakeholder input and equity considerations—that will address the safety problems described in the Action Plan. These strategies and countermeasures focus on a Safe System Approach and effective interventions and consider multidisciplinary activities. To the extent practicable, data limitations are identified and mitigated. Once identified, the projects and strategies are prioritized in a list that provides time ranges for when the strategies and countermeasures will be deployed (e.g., short-, mid-, and long-term timeframes). The list should include specific projects and strategies, or descriptions of programs of projects and strategies, and explains prioritization criteria used. The list should contain interventions focused on infrastructure, behavioral, and/or operational safety.
Progress and Transparency | Method to measure progress over time after an Action Plan is developed or updated, including outcome data. A means to ensure ongoing transparency is established with residents and other relevant stakeholders. The approach must include, at a minimum, annual public and accessible reporting on progress toward reducing roadway fatalities and serious injuries and public posting of the Action Plan online.

Applicants requesting funds to develop an Action Plan may also request funding for supplemental planning and demonstration activities subsequently described in Section A.2.i.b and A.2.i.c below. The goal of an Action Plan is to develop a holistic, well-defined strategy to prevent roadway fatalities and serious injuries in a locality, Tribe, or region. Further information on eligibility requirements is in Section C.

(b) Supplemental Planning

Supplemental action plan activities support or enhance an existing Action Plan. To only fund supplemental Action Plan activities through the SS4A program, an applicant must have an existing Action Plan; have a plan that is substantially similar and meets the eligibility requirements for having an existing plan; or be in the process of completing an Action Plan described in Table 1. Examples of supplemental planning include:

• Topical safety sub-plans focused on topics such as speed management, vulnerable road users, accessibility for individuals with disabilities, Americans with Disabilities Act of 1990 (ADA) transition plans, health equity, safety-focused Intelligent Transportation System implementation, lighting, or other relevant safety topics.

• Road safety audits.

• Additional safety analysis and expanded data collection and evaluation using integrated data.

• Targeted equity assessments.

• Required supplemental planning as a condition to receiving an Implementation Grant award as described in Section A.2.ii:

○ Updating Action Plans finalized and last updated in 2020 or earlier.

○ Broadening the road user focus to include all road users.

○ Updating plan components laid out in Table 1 and missing in an eligible plan.

• Follow-up stakeholder engagement and collaboration.

• Reporting on the progress from Action Plan implementation for transparency.

• Other roadway safety planning activities that enhance an Action Plan.

The final deliverable for supplemental planning is a written product that connects to, and enhances, an Action Plan. Final products shall be made publicly available. Additional information on supplemental planning is located at https://www.transportation.gov/grants/SS4A.

(c) Demonstration Activities

Demonstration activities inform an Action Plan by testing proposed project and strategy approaches to determine their potential benefits and future scope; demonstration activities are temporary. Demonstration activities must measure potential benefits through data collection and evaluation and inform an Action Plan's list of selected projects and strategies and their future implementation. To receive funds only for demonstration activities through the SS4A program, an applicant must have an existing Action Plan, have a plan that is substantially similar and meets the eligibility requirements for having an existing plan, or be in the process of completing an Action Plan described in Table 1. Demonstration activities could include:

• Feasibility studies using quick-build strategies that inform permanent projects in the future (e.g., use of paint and plastic delineator posts to experiment with impermanent roadway design changes, use of removable barriers to re-allocate roadway space).

• Various MUTCD Engineering Studies that further safety applications of the MUTCD (e.g., evaluating warrants for traffic signal installation, high-visibility crosswalk markings, bike lane treatments, etc.).

• Pilot programs for behavioral or operational activities that include at least one element of the Safe System Approach (e.g., test out a new education campaign's messaging at a small scale, trial changes to how Emergency Medical Services respond to crashes).

• Pilot programs that demonstrate safety benefits of technologies not yet adopted in the community (e.g., variable speed limits, technology for adaptive signal timing, adaptive lighting, Intelligent Transportation Systems, vehicle-to-infrastructure technology, etc.).⁶ Eligible technologies must be commercially available and at a prototype or advanced technological readiness level.⁷

⁶ Eligible vehicle-to-infrastructure demonstrations use interoperable vehicle-to-infrastructure (V2X) communications capabilities using 4G LTE cellular V2X (C-V2X) technology in the 5.905-5.925 GHz spectrum frequency band to enable safety applications for public fleet vehicles.

⁷ The corresponding level would be “Development,” level 7 Prototype demonstrated in operational environment. See https://www.fhwa.dot.gov/publications/research/ear/17047/17047.pdf.

Demonstration activities and pilot programs must inform Action Plans through small-scale tests with finite trial periods intended to gauge potential project and strategy effectiveness that will lead to project and strategy selection at a systemic level. The final deliverable is an assessment of the demonstration activities and an updated Action Plan that incorporates the information gathered from the demonstration activities into the Action Plan's list of projects or strategies and/or informs another part of the Action Plan. DOT intends to prioritize demonstration activities that are set up within 18 months (e.g., quick-builds on the roadway, pilot project established).

ii. Implementation Grants

Implementation Grants fund projects and strategies identified in an Action Plan that address roadway safety problems. Implementation Grants may also fund supplemental planning and demonstration activities as described in Section A.2.i, as well as planning, design, and development activities for projects and strategies identified in an Action Plan. DOT encourages Implementation Grant applicants to include supplemental planning and demonstration activities in their application. Applicants must have an existing Action Plan to apply for Implementation Grants or have an existing plan that is substantially similar and meets the eligibility requirements of an Action Plan. If applicants do not have an existing Action Plan, they should apply for Planning and Demonstration Grants and NOT Implementation Grants.

The Action Plan components may be contained within several plans. DOT requires applicants who have an Action Plan that is missing components required in Table 1 but still have a substantially similar plan based on the Self-Certification Eligibility Worksheet outlined in Section C to update an Action Plan to contain all components in a Comprehensive Safety Action Plan as outlined in Table 1. Updating an existing Plan to address missing components is a condition to receive Implementation Grant funding, and applicants applying for Implementation Grants can request to use SS4A supplemental planning funds to update an existing Action Plan to conform with all the components in Table 1. Additional information on eligibility requirements and eligible activities is in Section C below.

3. SS4A Grant Priorities

This section discusses priorities specific to SS4A and those related to the Department's overall mission, which are reflected in the selection criteria and NOFO requirements. Successful grant applications will:

• Promote safety to prevent death and serious injuries on public roadways;

• Employ low-cost, high-impact strategies that can improve safety over a wide geographic area;

• Ensure equitable investment in the safety needs of underserved communities, which includes both underserved urban and rural communities;

• Incorporate evidence-based projects and strategies and adopt innovative technologies and strategies;

• Demonstrate engagement with a variety of public and private stakeholders; and

• Align with the Department's mission and Strategic Goals such as safety; climate change and sustainability; equity and Justice40; and workforce development, job quality, and wealth creation.⁸

⁸ FY 2022-2026 USDOT Strategic Plan https://www.transportation.gov/dot-strategic-plan.

The Department seeks to award Planning and Demonstration Grants based on safety impact, equity, and other safety considerations. For Implementation Grants, DOT seeks to make awards to projects and strategies that save lives and reduce roadway fatalities and serious injuries; incorporate equity, engagement, and collaboration into how projects and strategies are executed; use effective practices and strategies; consider climate change, sustainability, and economic competitiveness in project and strategy implementation; and will be able to complete the full scope of funded projects and strategies within five years after the establishment of a grant agreement. Additional award consideration will be made for Implementation Grant applicants that have a high percentage of funds that benefit underserved communities, are in rural areas, request less than $10 million in Federal funds, and/or support geographic diversity amongst the Implementation Grant award recipients. Section D provides more information on the specific measures an application should demonstrate to support these goals.

The SS4A grant program aligns with both Departmental and Biden-Harris Administration activities and priorities. The National Roadway Safety Strategy (NRSS, issued January 27, 2022) commits the Department to respond to the current crisis in roadway fatalities by “taking substantial, comprehensive action to significantly reduce serious and fatal injuries on the Nation's roadways,” in pursuit of the goal of achieving zero roadway deaths through a Safe System Approach.⁹ DOT recognizes that zero is the only acceptable number of deaths on our roads, and SS4A program outcomes align with the NRSS and support the FY 2022-2026 DOT Strategic Plan safety performance goals such as a medium-term goal of a two-thirds reduction in roadway fatalities by 2040.¹⁰ DOT also incentivizes communities to adopt and implement Complete Streets policies that prioritize the safety of all users in transportation network planning, design, construction, and operations, and encourages applicants to use a Complete Streets design model on roadways where adjacent land use suggests that trips could be served by varied modes.¹¹ For applicants seeking to use innovative technologies and strategies, the Department's Innovation Principles serve as a guide to ensure innovations reduce deaths and serious injuries while committing to the highest standards of safety across technologies.¹²

⁹ https://www.transportation.gov/NRSS.

¹⁰ https://www.transportation.gov/dot-strategic-plan.

¹¹ More information on Complete Streets can be found at https://highways.dot.gov/complete-streets.

¹² https://www.transportation.gov/priorities/innovation/us-dot-innovation-principles. Released January 6, 2022.

This NOFO aligns with and considers Departmental policy priorities that have a nexus to roadway safety and grant funding. Consistent with the Department's implementation of Executive Order 14008, Tackling the Climate Crisis at Home and Abroad (86 FR 7619), the Department seeks to fund applications that address equity and environmental justice, particularly for communities that have experienced decades of underinvestment and are most impacted by climate change, pollution, and environmental hazards.¹³ Additionally, DOT seeks to fund projects that reduce greenhouse gas emissions in the transportation sector, including those that improve safety for low- and zero-emission modes of travel. Applicants should also consider the incorporation of evidence-based climate resilience measures and features; reduce the lifecycle greenhouse gas emissions from project materials; avoid adverse environmental impacts to air or water quality, wetlands, and endangered species; and address the disproportionate negative environmental impacts of transportation on disadvantaged communities.

¹³ See the definition of an underserved community, which includes Census tracts identified in the OMB CEJST and DOT ETCE tools.

Consistent with Executive Order 13985, Advancing Racial Equity and Support for Underserved Communities Through the Federal Government (86 FR 7009), the Department seeks to award funds under the SS4A grant program that will create proportional impacts to all populations in a project area, remove transportation related disparities to all populations in a project area, and increase equitable access to project benefits. An important area for DOT's focus is the disproportionate, adverse safety impacts that affect certain groups on our roadways, particularly people walking, biking, and rolling in underserved communities. In accordance with the Americans with Disabilities Act of 1990 (ADA), awards focused on infrastructure and demonstration activities must ensure that newly constructed facilities in the public right-of-way are accessible to, and usable by, individuals with disabilities to the extent that it is not structurally impracticable to do so. The ADA also requires that, when an existing facility is altered, the altered facility be made accessible to and usable by individuals with disabilities to the maximum extent feasible (28 CFR 35.151[a] and 35.151[b]). See Section E of this NOFO for climate and equity-related selection criteria and Section F for related award administration requirements.

The Department intends to use the SS4A program to support the creation of good-paying jobs with the free and fair choice to join a union and the incorporation of strong labor standards and training and placement programs, especially registered apprenticeships, in project planning stages, consistent with Executive Order 14025, Worker Organizing and Empowerment (86 FR 22829), and Executive Order 14052, Implementation of the Infrastructure Investment and Jobs Act (86 FR 64335). The Department also intends to use the SS4A program to support wealth creation, consistent with the Department's Equity Action Plan through the inclusion of local inclusive economic development and entrepreneurship such as the utilization of Disadvantaged Business Enterprises, Minority-owned Businesses, Women-owned Businesses, or 8(a) firms.

B. Federal Award Information

1. Total Funding Available

The BIL established the SS4A program with $5,000,000,000 in advanced appropriations in Division J, including $1,000,000,000 for FY 2023. Additionally, DOT has $177,213,000 in FY 2022 carryover funds set aside for Planning and Demonstration Grants as well as certain eligible safety planning and demonstrative activities that may be included under an Implementation Grant request. Therefore, this Notice makes available up to $1,177,213,000 for FY 2023 grants under the SS4A program. Refer to Section D for greater detail on additional funding considerations and Section D.5 for funding restrictions.

2. Availability of Funds

Grant funding obligation occurs when a selected applicant and DOT enter into a written grant agreement after the applicant has satisfied applicable administrative requirements. Unless authorized by DOT in writing after DOT's announcement of FY 2023 SS4A grant awards, any costs incurred prior to DOT's obligation of funds for activities (“pre-award costs”) are ineligible for reimbursement and may not be used as matching funds. All SS4A funds must be expended within five years after the grant agreement is executed and DOT obligates the funds.

3. Award Size and Anticipated Quantity

In FY 2023, DOT expects to award hundreds of Planning and Demonstration Grants and up to one hundred Implementation Grants. The Department reserves the right to make more, or fewer, awards. DOT reserves the discretion to alter minimum and maximum award sizes upon receiving the full pool of applications and assessing the needs of the program in relation to the SS4A grant priorities in Section A.3. Federal funding requests must be made in whole dollar amounts (no cents).

iii. Planning and Demonstration Grants

For Planning and Demonstration Grants, award amounts will be based on estimated costs, with an expected minimum of $100,000 and an expected maximum of $10,000,000 for all applicants. The Department expects larger award amounts for a metropolitan planning organization (MPO), an application comprised of a multijurisdictional group of entities that is regional in scope (e.g., a multijurisdictional group of counties, a council of governments and cities within the same region), or those who are conducting activities in a large geographic area. The Department will consider applications with funding requests under the expected minimum award amount. DOT reserves the right to make Planning and Demonstration Grant awards less than the total amount requested by the applicant.

An application that engages multiple jurisdictions in the same region is encouraged in order to ensure collaboration across multiple jurisdictions and leverage the expertise of agencies with established financial relationships with DOT and knowledge of Federal grant administration requirements. For applicants developing a new Action Plan, the application may propose the development of a single Action Plan covering all jurisdictions, several plans for individual jurisdictions, or a system to administer sub-awards to entities within its jurisdiction.

Of the total amount available, DOT anticipates that it will award at least $250 million for demonstration activities that will inform the development of an Action Plan, as described in Section A.

iv. Implementation Grants

For Implementation Grants, DOT expects the minimum award will be $2,500,000 and the maximum award will be $25,000,000. DOT reserves the right to make Implementation Grant awards less than the total amount requested by the applicant.

4. Start Dates and Period of Performance

DOT expects to obligate SS4A award funding via a signed grant agreement between the Department and the recipient, as flexibly and expeditiously as possible, within 12 months after awards have been announced. Applicants who have never received Federal funding from DOT before are encouraged to partner with eligible applicants within the same region, such as an MPO, that have established financial relationships with DOT and knowledge of Federal grant administration requirements. While States are not eligible applicants and cannot be a co-applicant (which includes State Departments of Transportation and similar State-level entities), eligible applicants are encouraged to separately coordinate with States and other entities experienced with administering Federal grants, outside of the SS4A grant award process, to ensure effective administration of a grant award. The expected period of performance for Planning and Demonstration Grant agreements is between 12 months and 5 years, depending on the scope and extent of the grant activities. The period of performance for Planning and Demonstration Grant and Implementation Grant agreements may not exceed five years.

5. Data Collection Requirements

Under BIL, the Department shall post on a publicly available website best practices and lessons learned for preventing roadway fatalities and serious injuries pursuant to strategies or interventions implemented under SS4A. Additionally, DOT shall evaluate and incorporate, as appropriate, the effectiveness of strategies and interventions implemented under the SS4A grant program.¹⁴ The Department intends to measure safety outcomes through a combination of grant agreement activities and data collections, DOT data collections already underway, and program evaluations separate from the individual grant agreements in accordance with Section F.3.iii. The grant data-collection requirements reflect the need to build evidence of noteworthy strategies and what works. The Department expects to use the data and outcome information collected before and after evaluations. See Section F for more information about post-award reporting requirements.

¹⁴ BIL specifically cites Countermeasures That Work: A Highway Safety Countermeasure Guide for State Highway Safety Offices, Ninth Edition or any successor document, but DOT also is to consider applied research focused on infrastructure and operational projects and strategies.

C. Eligibility Information

1. Eligible Applicants

Eligible applicants for SS4A grants are:

(1) a metropolitan planning organization (MPO);

(2) a political subdivision of a State or territory;

(3) a federally recognized Tribal government; and

(4) a multijurisdictional group of entities described in any of the aforementioned three types of entities.

A multijurisdictional group of entities described in (4) should identify a lead applicant as the primary point of contact. For the purposes of this NOFO, a political subdivision of a State under (2), above, is defined as a unit of government under the authority of State law. This includes cities, towns, counties, special districts, and similar units of local government. A transit district, authority, or public benefit corporation is eligible if it was created under State law, including transit authorities operated by political subdivisions of a State. States are not eligible applicants, but DOT encourages applicants to coordinate with State entities, as appropriate. Eligible MPOs, transit agencies, and multijurisdictional groups of entities with a regional scope are encouraged to support subdivisions of a State such as cities, towns, and counties with smaller populations within their region. The Department strongly encourages applications that involve multijurisdictional partnerships for Planning and Demonstration Grants and for applicants who have never received Federal funding and can apply with entities experienced in executing DOT grants.

An eligible applicant for an Implementation Grant must also meet at least one of these conditions:

(1) have ownership and/or maintenance responsibilities over a roadway network;

(2) have safety responsibilities that affect roadways; or

(3) have agreement from the agency that has ownership and/or maintenance responsibilities for the roadway within the applicant's jurisdiction.

For the purposes of this NOFO, an applicant's jurisdiction is defined as the U.S. Census tracts where the applicant operates or performs their safety responsibilities.

2. Cost Sharing or Matching

The Federal share of a SS4A grant may not exceed 80 percent of total eligible activity costs. Recipients are required to contribute a local matching share of no less than 20 percent of eligible activity costs. Unless otherwise authorized by statute, all matching funds must be from non-Federal sources. Matching funds may include funding from the applicant, or other eligible non-Federal sources. In accordance with 2 CFR 200.306, grant recipients may use in-kind or cash contributions toward local match requirements so long as those contributions meet the requirements under 2 CFR 200.306(b). Any in-kind contributions used to fulfill the cost-share requirement for both Planning and Demonstration Grants and Implementation Grants must:

• Be in accordance with the cost principles in 2 CFR 200 subpart E;

• Include documented evidence of completion within the period of performance; and

• Support the execution of the eligible activities in Section C.4.

SS4A funds will reimburse recipients only after a grant agreement has been executed, allowable expenses are incurred, and valid requests for reimbursement are submitted. Grant agreements are expected to be administered on a reimbursement basis, and at the Department's discretion alternative funding arrangements may be established on a case-by-case basis.

3. Grant Eligibility Requirements

If an applicant is eligible for both a Planning and Demonstration Grant and an Implementation Grant, the applicant may only apply for a Planning and Demonstration Grant or an Implementation Grant, not both. An eligible applicant may only submit one application to the funding opportunity. Implementation Grant applicants may request funds to bundle supplemental planning and demonstration activities as described in Section A.2.i to update an Action Plan, with funds to implement projects and strategies. Planning and Demonstration Grant funding recipients are not precluded from applying for Implementation Grants in future funding rounds. SS4A award recipients from FY 2022 are eligible to apply in FY 2023.

i. Planning and Demonstration Grant Eligibility Requirements

Eligibility requirements are contingent on whether an applicant is requesting funds to develop a new Action Plan, conduct supplemental planning to update an existing Action Plan, and/or carry out demonstration activities to inform the development of or update to an Action Plan. Any applicant that meets the eligibility requirements may apply for a Planning and Demonstration Grant to develop an Action Plan. Applicants applying to develop an Action Plan may also bundle supplemental planning and demonstration activities into their funding request. Applicants with an existing Action Plan may also apply to update their Action Plan. The development of an Action Plan must include all relevant road users and be at a broad, systemic geographic level (e.g., the entire eligible applicant's jurisdiction, and cannot be for a few road segments within a jurisdiction).

If a higher-level jurisdiction (e.g., an MPO or county would be a higher-level jurisdiction for a city or town) has an existing plan in place, or is in the process of completing an Action Plan, an eligible applicant can apply for supplemental planning or demonstration activities without its own plan as long as: (1) the higher-level jurisdiction's Action Plan's geographic boundaries covers the eligible applicant's jurisdiction; (2) the proposed activities are coordinated with the high-level jurisdiction, and the application demonstrates such coordination; and (3) the activities will inform the Action Plan of the higher-level jurisdiction. Duplicative efforts (e.g., requesting funds to develop an Action Plan even though a higher-level jurisdiction already received an FY 2022 award that covers the same area, multiple applicants requesting to carry out the same types of demonstration activities in the same area) will be identified and assessed for merit within the context of other jurisdictions and their planning and demonstration activities. The Department encourages complementary but distinctive activities, including but not limited to demonstration activities that will help inform the development of an Action Plan in an FY 2022 award.

ii. Implementation Grant Eligibility Requirements

To apply for an Implementation Grant, the applicant must certify that they have an existing plan that is substantially similar to an Action Plan. The plan or plans must be uploaded as an attachment to the application or provided as web links to publicly available sites. Applicants should use the Self-Certification Eligibility Worksheet to determine eligibility.¹⁵ The existing plan must be focused, at least in part, on the roadway network within the applicant's jurisdiction. The components required for an existing plan to be substantially similar to an Action Plan may be found in multiple plans. State-level Action Plans (e.g., a Strategic Highway Safety Plan required in 23 U.S.C. 148, State Highway Safety Plans required in 23 U.S.C. 402, Commercial Vehicle Safety Plans required in 49 U.S.C. 31102, etc.) as well as Public Transportation Agency Safety Plans in 49 U.S.C. 5329 cannot be used as an established plan to apply for an Implementation Grant. If a higher-level jurisdiction (e.g., an MPO, county, etc.) has an existing plan in place that meets the plan eligibility requirements, an eligible applicant covered within the Action Plan's geographic boundaries could apply without its own plan as long as the other eligibility requirements are met.

¹⁵ https://www.transportation.gov/grants/ss4a/self-certification-worksheet.

Further, Implementation Grant applicants who meet any of the following conditions must update their Action Plan during the execution of a grant agreement to align with all the Comprehensive Safety Action Plan components in Table 1 as a condition to receiving SS4A funds:

• Self-Certification Eligibility Worksheet areas that include a “no” response;

• Safety focus in the qualifying Action Plan does not include all road users, including pedestrians, bicyclists, and motor vehicle safety; or

• Action Plans last updated more than three years ago (to apply in the first place, applicants must have a plan that was finalized and/or last updated between 2018 and June 2023).

Implementation Grant applicants are encouraged to request supplemental planning funding in their application to complete missing components of an existing plan but may choose to complete such activities without Federal funding.

4. Eligible Activities and Costs

i. Eligible Activities

Broadly, eligible activity costs must comply with the cost principles set forth in 2 CFR, Subpart E (i.e., 2 CFR 200.403 and 200.405). DOT reserves the right to make cost eligibility determinations on a case-by-case basis. Eligible activities for grant funding include the following three elements:

A. Developing a comprehensive safety action plan or Action Plan (i.e., the activities in Table 1, as well as the supplemental planning and demonstration activities described in Section A.2);

B. Conducting planning, design, and development activities for projects and strategies identified in an Action Plan; and

C. Carrying out projects and strategies identified in an Action Plan.

For Implementation Grants, activities must include element (C) “carrying out projects and strategies identified in an Action Plan,” and may include element (B) “conducting planning, design, and development activities for projects and strategies identified in an Action Plan” and/or element (A) “supplemental planning or demonstration activities.” Projects and strategies identified in element (C) must be either infrastructure, behavioral, or operational activities identified in the Action Plan, and must be directly related to addressing the safety problem(s) identified in the application and Action Plan. Applicants may “bundle” different projects, strategies, supplemental planning, and/or demonstration activities into one Implementation Grant application, even if they address different safety problems or are located in different areas. Examples of eligible Implementation Grant activities are listed on the SS4A website located at https://www.transportation.gov/grants/SS4A. The following activities are not eligible for element (C) “projects and strategies” nor demonstration activity funding:

• Projects and strategies whose primary purpose is not roadway safety.

• Projects and strategies exclusively focused on non-roadway modes of transportation, including air, rail, marine, and pipeline. Roadway intersections with other modes of transportation (e.g., at-grade highway rail crossings, etc.) are eligible activities.

• Capital projects to construct new roadways used for motor vehicles. New roadway facilities exclusively for non-motorists (e.g., a shared use path) is an eligible activity if the primary purpose is safety related.

• Infrastructure projects primarily intended to expand capacity to improve Levels of Service for motorists on an existing roadway, such as the creation of additional lanes.

• Maintenance activities for an existing roadway primarily to maintain a state of good repair. However, roadway modifications on an existing roadway in support of specific safety-related projects identified in an Action Plan are eligible activities.

• Development or implementation of a public transportation agency safety plan (PTASP) required by 49 U.S.C. 5329. However, a PTASP that identifies and addresses risks to pedestrians, bicyclists, personal conveyance and micromobility users, transit riders, and others may inform Action Plan development.

Projects, strategies, and demonstration activities must have equity—the consistent, fair, just, and impartial treatment of all people—at their foundation. This includes traffic enforcement strategies. As part of the Safe System Approach adopted in the USDOT's National Roadway Safety Strategy, any activities related to compliance or enforcement efforts to make our roads safer should affirmatively improve equity outcomes as part of a comprehensive approach to achieve zero roadway fatalities and serious injuries. The SS4A program can be used to support safety projects and strategies that address serious safety violations of drivers (e.g., speeding, alcohol and drug-impaired driving, etc.), so long as the proposed strategies are data-driven and demonstrate a process in alignment with goals around community policing and in accordance with Federal civil rights laws and regulations.¹⁶ Funds may not be used, either directly or indirectly, to support or oppose union organizing.

¹⁶ For one such example, see https://cops.usdoj.gov/RIC/Publications/cops-p157-pub.pdf.

ii. Project and Strategy Location

For Implementation Grants, applications must identify the problems to be addressed, the relevant geographic locations (e.g., corridors, intersections, etc.), and the projects and strategies they plan to implement based on their Action Plan or established plan. This should include specific intervention types, address common safety risk characteristics, and be located on the Action Plan's High-Injury Network to the extent practicable. To provide flexibility in the implementation of projects and strategies that involve systemic safety strategies or bundling of similar countermeasures, an applicant may wait to finalize site locations as part of executing the grant agreement, if necessary, upon approval of the Department, and as long as the identified site locations are primarily on the High-Injury Network and designs remain consistent with the intent of the award.

A. Application and Submission Information

1. Address To Request Application Package

All grant application materials can be accessed at grants.gov under opportunity number DOT-SS4A-FY23-01. Applicants must submit their applications via Valid Eval at https://usg.valideval.com/teams/usdot_ss4a_2023_implementation/signup for Implementation Grant applicants, and https://usg.valideval.com/teams/usdot_ss4a_2023_planning_demo/signup for Planning and Demonstration Grants under the Notice of Funding Opportunity Number cited herein. Potential applicants may also request paper copies of materials at:

Telephone: 202-366-4114

Mail: U.S. Department of Transportation, 1200 New Jersey Avenue SE, W84-322, Washington, DC 20590.

2. Content and Form of Application Submission

The Planning and Demonstration Grant, and the Implementation Grant, respectively, have different application submission and supporting document requirements.

i. Planning and Demonstration Grant Application Submissions

The application must include the following: Standard Forms (SF); Key Information Questions; Project Narrative and Summary Budget Narrative. This information must be submitted via Valid Eval at https://usg.valideval.com/teams/usdot_ss4a_2023_planning_demo/signup. More detailed information about each application material is provided below. The necessary file formats for each application component will be displayed on the Valid Eval intake site.

• Standard forms: All applicants must submit the following Standard Forms: Application for Federal Assistance (SF-424), Budget Information for Non-Construction Programs (SF-424A), Assurances for Non-Construction Programs (SF-424B), and Disclosure of Lobbying Activities (SF-LLL).

• Key Information Questions: Below is a preview list of the questions that are asked on USDOT's automated proposal website at https://usg.valideval.com/teams/usdot_ss4a_2023_planning_demo/signup. After registering in the system, the applicant will be prompted to answer these questions on the website.

Table 2—Example Planning and Demonstration Application Key Information Table
Title | Instructions
Lead Applicant Name | This should be consistent with Q. 8.a. of the SF-424.
Lead Applicant Unique Entity Identifier (UEI) | See Section D.3 below for more information about obtaining a UEI from SAM.gov.
Eligible Entity Type | See Section C.1.
Do you have additional applicants as part of a multijurisdictional group of eligible entities? | List of additional applicants.
Total Applicant Jurisdiction Population | 2020 U.S. Census American Community Survey.
Total Applicant Jurisdiction Applicant Census Tract(s) | List of all Census tracts covered by the jurisdiction.
Census Tract(s) of any pilot or demonstration projects (if applicable) | Census tracts where pilot or demonstration projects would take place.
Total Count Motor Vehicle-Involved Roadway Fatalities that includes the last five years of data made available in the Fatality Analysis Reporting System (FARS) during the NOFO period | From the Fatality Analysis Reporting System (FARS) for the applicant jurisdiction. Use 2016-2020 data; or if available, 2017-2021 data. NOTE: The 2021 FARS data is expected to be released early in the NOFO period.
Total Average Annual Fatality Rate (per 100,000 population | The fatality rate calculated using the 5-year annual average from the total count of fatalities based on FARS data, divided by the population of the applicant's jurisdiction based on 2020 U.S. Census ACS population data.
Total Percent of Population in Underserved Communities Census Tract(s) | The population in underserved communities should be a percentage obtained by dividing the population living in Census tracts with an Underserved Community designation divided by the total population living in the jurisdiction.
Project Title | A concise, descriptive title for the project. This should be the same title used in the SF-424 form and the application narrative.
Application Type (select all that apply) | Develop a new Action Plan; Conduct Supplemental Planning to update an Action Plan; Demonstration Activities to inform development of an Action Plan.
Description of Supplemental Planning and Demonstration Activities (if relevant) | See Section A.2.i.
Total Federal Funding Request | Must be a whole number (no cents).
Total Local share/Match | Must be equal to, or greater than, 20% of total project cost.
Total Project Cost | Sum of Total Federal Funding Request and Total Local share/Match.
Regional Coordination | Questions on your application in relation to overlapping jurisdictions that received an award in FY 2022 or are applying for a grant in FY 2023.

• Narrative: In narrative form, the applicant must respond to the Planning and Demonstration Grant selection criteria described in Section E.1.i to affirm its alignment with SS4A safety considerations and address the criteria. The narrative must be no longer than 2 pages.

For applicants requesting funding for demonstration activities to inform an Action Plan: you must provide a brief schedule showing when the activities will be in place (e.g., hardware installed, when the pilot would begin, etc.), and the start/end dates of the work. If anticipated to be a schedule constraint, applicants should include in the narrative any potential timeline implications of meetings administration requirements in Section F such as domestic preference and any required waivers, the National Environmental Policy Act requirements, as well as any applicable permitting and approval timeframes.

• Self-Certification Eligibility Worksheet: If only applying for supplement planning and/or demonstration activities that will inform the update of an existing plan, applications must either demonstrate their existing plan is eligible by attaching the filled out Self-Certification Eligibility Worksheet, or be in the process of developing a comprehensive safety action plan. If applying to develop a new Action Plan, applicants do not need to include the worksheet even if supplemental planning and/or demonstration activities are included.

• Map: The applicant must submit a map in a PDF format that shows the location of the jurisdiction and highlights the roadway network under the applicant's jurisdiction.

• Budget: Applicants are required to provide a brief budget summary and a high-level overview of estimated activity costs, as organized by all major cost elements. Funding sources should be grouped into two categories: Federal Funding share, and non-Federal share funds. The costs or value of in-kind match should also be provided. This budget shall not include any previously incurred expenses, or costs to be incurred before the time of award. DOT requires applicants use SF-424A to provide this information. Additionally, applicants must summarize the amount of funding going towards the three eligible activities for a Planning and Demonstration Grant (developing a new Action Plan, conducting supplemental planning to update an existing plan, and carrying out demonstration activities to inform the development or update of an Action Plan).

ii. Implementation Grant Application Submissions

The application must include the following: Standard Forms (SF); Key Information Questions; Project Narrative and Summary Budget Narrative. This information must be submitted via Valid Eval at https://usg.valideval.com/teams/usdot_ss4a_2023_implementation/signup. More detailed information about each application material is provided below. The necessary file formats for each application component will be displayed on the Valid Eval intake site.

• Standard forms: All applicants must submit the following Standard Forms: Application for Federal Assistance (SF-424), Budget Information for Construction Programs (SF-424C), Assurances for Construction Programs (SF-424D), and Disclosure of Lobbying Activities (SF-LLL).

• Key Information Questions: This is a preview list of the questions that are asked on USDOT's automated proposal website at https://usg.valideval.com/teams/usdot_ss4a_2023_implementation/signup. After registering in the system, the applicant will be prompted to answer these questions on the website.

Table 3—Example Implementation Grant Application Key Information Table
Title | Instructions
Lead Applicant Name | This should be consistent with Q. 8.a. of the SF-424.
Lead Applicant Unique Entity Identifier (UEI) | See Section D.3 below for more information about obtaining a UEI from SAM.gov.¹⁷
Eligible Entity Type | See Section C.1.
Do you have additional applicants as part of a multijurisdictional group of eligible entities? | List of additional applicants.
Total Applicant Jurisdiction Population | 2020 U.S. Census American Community Survey.
Total Applicant Jurisdiction Applicant Census Tract(s) | List of all Census tracts covered by the jurisdiction.
Total Applicant Jurisdiction Count of Motor Vehicle-Involved Roadway Fatalities that includes the last five years of data made available in FARS during the NOFO period | From the Fatality Analysis Reporting System (FARS) for the applicant jurisdiction. Use 2016-2020 data; or if available, 2017-2021 data. Note: The 2021 FARS data is expected to be released early in the NOFO period.
Total Jurisdiction Average Annual Fatality Rate (per 100,000 population) | The fatality rate calculated using the 5-year annual average from the total count of fatalities based on FARS data, divided by the population of the applicant's jurisdiction based on 2020 U.S. Census ACS population data.
Census Tract(s) of the project(s) | Census tract(s) where project(s) would take place.
Specific project location(s) | Names of corridors or intersections, latitude/longitude coordinates, or other description of project limits.
Percent of Population in Underserved Communities in the project area Census Tract(s) | The population in underserved communities should be a percentage obtained by dividing the population living in Census tracts with an Underserved Community designation divided by the total population living in the jurisdiction.
Project Area Fatalities 2017-2021 | Count of fatalities in the project area(s). May use source other than FARS.
Project Area Serious Injuries 2017-2021 OR Project Area Injuries Severity Unknown 2017-2021 | Count of serious injuries in the project area(s). Applicants without reliable serious injury data may use suspected serious injury figures. Please cite source.
Project Title | A concise, descriptive title for the project. This should be the same title used in the SF-424 form and the application narrative.
Project Goals | One sentence summary of the safety problem(s) this project will address.
Applicant roadway safety responsibility (select all that apply): | • Ownership and/or maintenance responsibilities over a roadway network; • Safety responsibilities that affect roadways; • Have an agreement from the agency that has ownership and/or maintenance responsibilities for the roadway within the applicant's jurisdiction.
Primary project purpose (select one) | • Infrastructure Projects and Strategies. • Behavioral Project and Strategies. • Operational or Technology Projects and Strategies.
Roadway users that this project will significantly benefit (check all that apply) | • Pedestrians. • Bicyclists. • Micromobility Users (e.g., scooters, etc.). • Transit Users. • Commercial Motor Vehicles. • Motorists. • Emergency Medical Services. • Other (please specify).
Does this project include major construction, minor construction, or both? | • Major construction projects. • Minor construction projects. • Neither major nor minor constructions projects.
Does your project include Demonstration Activities? | See Section A.2.i.
Would you consider accepting funding for only demonstration activities and/or supplemental planning? | Yes, no, n/a.
Total Federal Funding Request | Must be a whole number (no cents).
Total Local share/Match | Must be equal to, or greater than, 20% of total project cost.
Total Project cost | Sum of Total Federal Funding Request and Total Local share/Match.
Total Federal Funds Allocated to Underserved Communities | Funds to be spent in Census tracts identified as underserved through the DOT Equitable Transportation Community Explorer tool.
Supplemental Planning Activities (A) Federal Funding Request |
Supplemental Planning Activities (A) Total Project Costs |
Planning, Design, and Development Activities for Projects/Strategies (B) Federal Funding Request |
Planning, Design, and Development Activities for Projects/Strategies (B) Total Project Costs |
Carrying Out Projects and Strategies (C) Federal Funding Request |
Carrying Out Projects and Strategies (C) Total Project Costs |
Existing Comprehensive Safety Action Plan (or equivalent) | Link to or attachment.
¹⁷ https://sam.gov/content/home.

(a) Narrative

The Department recommends that the narrative follows the outline below to address the program requirements and assist evaluators in locating relevant information. The narrative may not exceed 12 pages in length, excluding cover pages and the table of contents. The Self-Certification Eligibility Worksheet and Budget sections do not count towards the 12-page limit. Appendices may include documents supporting assertions or conclusions made in the 12-page narrative and also do not count towards the 12-page limit. If possible, website links to supporting documentation should be provided rather than copies of these supporting materials. If supporting documents are submitted, applicants should clearly identify within the narrative the relevance of each supporting document. Letters of support will only be considered if they are submitted with the application as one consolidated set of support letters in one supporting attachment.

I. Overview See D.2.ii.a.I

II. Location See D.2.ii.a.II

III. Response to Selection Criteria See D.2.ii.a.III and Section E.1.ii

IV. Project Readiness See D.2.ii.a.IV

I. Overview

This section should provide an introduction, describe the safety context, jurisdiction, and any high-level background information that would be useful to understand the rest of the application.

II. Location

This section of the application should describe the jurisdiction's location, the jurisdiction's High-Injury Network or equivalent geospatial identification (geographic or locational data using maps) of higher risk locations, and potential locations and corridors of the projects and strategies. Note that the applicant is not required to provide exact locations for each project or strategy; rather, the application should identify which geographic locations are under consideration for projects and strategies to be implemented and what analysis will be used in a final determination.

III. Response to Selection Criteria

This section should respond to the criteria for evaluation and selection in Section E.1.ii of this Notice and include a compelling narrative to highlight how the application aligns with criteria #1 Safety Impact; #2 Equity, Engagement, and Collaboration; #3 Effective Practices and Strategies; #4 Other DOT Strategic Goals; #5 Additional Safety Context (only if applying for supplemental planning and/or demonstration activities).

Note, criterion #1 Safety Impact assesses “implementation cost” information, which will be described in SF-424C, Budget of the narrative, and the Key Information Table. The Federal funding requested per person(s) killed or seriously injured from 2017-2021 in the Key Information Table should be itemized by separating different locations and/or different sets of proposed projects and strategies that address a similar safety problem and match the itemization in the Budget.

The applicant must respond to each of the four criteria 1-4 and respond to criterion #5 if applying for supplemental planning and/or demonstration activities. Applicants are not required to follow a specific narrative format, but the structure should clearly identify the narrative associated with each selection criterion. To the extent practical, DOT encourages applicants to incorporate existing content from their Action Plan/established plan(s).

IV. Project Readiness

The applicant must provide information to demonstrate the applicant's ability to substantially execute and complete the full scope of work in the application proposal within five years of when the grant is executed, with a particular focus on design and construction, as well as environmental, permitting, and approval processes. Applicants should indicate if they will be seeking permission to use roadway design standards that are different from those generally applied by the State in which the project is located. As part of this portion of the narrative, the applicant must include a detailed activity schedule that identifies all major project and strategy milestones. Examples of such milestones include State and local planning approvals; start and completion of National Environmental Policy Act (NEPA) and other Federal environmental reviews and approvals including permitting; design completion; right of way acquisition; approval of plans, specifications, and estimates; procurement; State and local approvals; public involvement; partnership and implementation agreements; and construction. Environmental review documentation should describe in detail known project impacts, and possible mitigation for those impacts. When a project results in impacts, an award recipient must take steps to engage the public. At a minimum, the project readiness narrative and detailed project activity schedule must include the applicability and disposition of: NEPA and Federal environment reviews and approvals; utility relocation; and right-of-way acquisition. For additional guidance and resources, visit https://www.transportation.gov/grants/SS4A.

(b) Self-Certification Eligibility Worksheet

Attach a completed Self-Certification Eligibility Worksheet.

(c) Budget

This section of the application should describe the budget for the SS4A proposal. Applicants are required to provide a brief budget summary and provide a high-level overview of estimated activity costs, as organized by all major cost elements. The budget shall provide itemized estimates of the costs by separating different locations and/or different sets of proposed projects and strategies that address a similar safety problem, and then providing additional details about those from the itemized list at the component level. This information should include capital costs for infrastructure safety improvements and costs associated with behavioral and operational safety projects and strategies. The section should also distinguish between the three eligible activity areas: (A) supplemental planning and demonstration activities in support of an existing Action Plan; (B) conducting planning, design, and development activities for projects and strategies identified in an Action Plan; and (C) carrying out projects and strategies identified in an Action Plan.

Funding sources should be grouped into two categories: SS4A funding Federal share, and non-Federal share funds. Estimated costs or value of in-kind matches should also be provided. The budget should show how each source of funds will be spent. This budget should not include any previously incurred expenses, or costs to be incurred before the time of award and obligation because these expenses are not eligible for reimbursement or cost-sharing. DOT requires applicants use form SF-424C, and the applicant must also provide the information in Table 4 below.

Table 4—Supplemental Estimated Budget
Activities | Federal funding request | Total project cost | Federal funds to underserved communities
Itemized Estimated Costs of the (A) supplemental action plan activities
Item #1 | $0.00 | $0.00
Item #2 | 0.00 | 0.00
Subtotal Budget for (A) supplemental action plan activities | 0.00 | 0.00 | $0.00
Itemized Estimated Costs of the (B) planning, design, and development activities
Location or Project #1 | 0.00 | 0.00 | 0.00
Individual Component for #1 | 0.00 | 0.00
Individual Component for #1 | 0.00 | 0.00
Location or Project #2 | 0.00 | 0.00 | 0.00
Individual Component for #2 | 0.00 | 0.00
Individual Component for #2 | 0.00 | 0.00
Subtotal Budget for (B) conducting planning, design, and development activities | 0.00 | 0.00 | 0.00
Itemized Estimated Costs of the (C) proposed projects and strategies
Location or Project #1 | 0.00 | 0.00 | 0.00
Individual Component for #1 | 0.00 | 0.00
Individual Component for #1 | 0.00 | 0.00
Location or Project #2 | 0.00 | 0.00 | 0.00
Individual Component for #2 | 0.00 | 0.00
Individual Component for #2 | 0.00 | 0.00
Subtotal Budget for (C) carrying out projects and strategies | 0.00 | 0.00 | 0.00

3. Unique Entity Identifier and System for Award Management (SAM)

Each applicant is required to: (i) be registered in SAM (https://sam.gov/content/home) before submitting its application; (ii) provide a valid unique entity identifier in its application; and (iii) continue to maintain an active SAM registration with current information at all times during which it has an active Federal award or an application or plan under consideration by a Federal awarding agency. DOT may not make a Federal award to an applicant until the applicant has complied with all applicable unique entity identifier and SAM requirements and, if an applicant has not fully complied with the requirements by the time DOT is ready to make an award, DOT may determine that the applicant is not qualified to receive an award and use that determination as a basis for making an award to another applicant.

4. Submission Dates and Times

Applications must be submitted by 5:00 p.m. EDT on Monday, July 10, 2023. Late applications will not be accepted.

5. Funding Restrictions

Per BIL requirements, not more than 15 percent of the $1 billion in FY 2023 funds made available to carry out the SS4A program may be awarded to eligible applicants in a single State.¹⁸ In addition, 40 percent of the total funds made available in FY 2023 and all $177 million of the funds carried over from FY 2022 must be awarded for developing an Action Plan, including supplemental planning to update an existing Action Plan, or demonstration activities to inform the development of or update an Action Plan (total $577 million). Due in part to these restrictions, in FY 2022, nearly all the eligible applicants requesting funds for Action Plan development were awarded, while less than 20 percent of Implementation Grant applications were awarded.

¹⁸ Funding for Tribal lands will be treated as their own State and will not count toward a State's 15% limit.

6. Other Submission Requirements

The format of the Section D.2 application submission should be in PDF format, with font size no less than 12-point Times New Roman, margins a minimum of 1 inch on all sides, and include page numbers. The necessary file formats for each application component will be displayed on the Valid Eval intake site.

The complete application must be submitted via Valid Eval, an online submission proposal system used by USDOT at https://usg.valideval.com/teams/usdot_ss4a_2023_implementation/signup for Implementation Grant applicants, and https://usg.valideval.com/teams/usdot_ss4a_2023_planning_demo/signup for Planning and Demonstration Grant applicants.

B. Application Review Information

1. Selection Criteria

This section specifies the criteria DOT will use to evaluate and select applications for SS4A grant awards. The Department will review merit criteria for all complete applications from eligible applicants. Planning and Demonstration Grants, and Implementation Grants, respectively, each have their own set of application review and selection criteria.

i. Planning and Demonstration Grant Selection Criteria

For Planning and Demonstration Grants, the Department will use three evaluation criteria. The Department will evaluate quantitative data in two selection criteria areas: #1 Safety Impact; and #2 Equity. The Department will also assess the narrative for #3 Additional Safety Context. Costs will also be considered.

Selection Criterion #1: Safety Impact

The activities are in jurisdictions that will likely support a significant reduction or elimination of roadway fatalities and serious injuries involving various road users, including pedestrians, bicyclists, public transportation users, personal conveyance and micromobility users, motorists, and commercial operators, within the timeframe proposed by the applicant. The Department will assess safety impact using two quantitative ratings:

• The count of roadway fatalities from the most recent set of 5-year data ¹⁹ based on DOT's FARS data, an alternative traffic crash dataset, or a comparable data set with roadway fatality information.²⁰

¹⁹ At the time of NOFO publication this would be 2016-2020 data; however, the 2021 data is expected to be released early in the NOFO period.

²⁰ https://cdan.dot.gov/query.

• The fatality rate, which is calculated using 5-year annual average from the total count of fatalities (based on FARS data or an alternative traffic crash dataset) divided by the 2020 population of the applicant's jurisdiction based on 2020 ACS population data from the U.S. Census. The rate should be normalized per 100,000 persons.

Selection Criterion #2: Equity

The activities will ensure equitable investment in the safety needs of underserved communities in preventing roadway fatalities and injuries, including rural communities. The Department will assess the equity criterion using one quantitative rating:

• The percentage of the population in the applicant's jurisdiction that resides in an Underserved Community Census tract.²¹ Population of a Census tract, either a tract that is Underserved Community or not, must be based on 2020 ACS population data from the U.S. Census.

²¹ https://experience.arcgis.com/experience/0920984aa80a4362b8778d779b090723/page/Applicant-Explorer/.

Selection Criterion #3: Additional Safety Context

The applicant must address these considerations in narrative form. The Department will assess whether the applicant has: described the scope of work to be performed; the roadway safety issues that necessitate further Action Plan development, supplemental planning, and/or demonstration activities, as applicable; and how the funded activities will inform an Action Plan and support the identification of projects and strategies that will:

• Lead to a significant reduction or elimination of roadway fatalities and serious injuries involving various road users;

• Employ low-cost, high-impact strategies that can improve safety over a wider geographical area;

• Involve engaging with a variety of public and private stakeholders;

• Adopt innovative technologies to promote safety and equity; and

• Be evidence-based or build evidence around what works.

Applicants applying to carry out demonstration activities to inform the development of an Action Plan will also be assessed as to whether their approach to measuring the potential benefits of the demonstration activities through data collection and evaluation are described, and the extent to which the activities will be set up (e.g., quick builds on the roadway, pilot project established) within 18 months of executing a grant agreement.

Additional Consideration: Budget Costs

The Department will assess the extent to which the budget and costs to perform the activities required to execute the Planning and Demonstration Grant are reasonable, necessary, and allocable based on 2 CFR 200.404 and 405, and the extent to which the application delineates the breakdown of Federal funds requested between developing an Action Plan, conducting supplemental planning to update an existing plan, and/or carrying out demonstration activities to inform the development or update of an Action Plan.

ii. Implementation Grant Selection Criteria

Implementation Grants have five merit criteria: #1 Safety Impact; #2 Equity, Engagement, and Collaboration; #3 Effective Practices and Strategies; #4 Other DOT Strategic Goals; and #5 Supplemental Planning and Demonstration Activities. DOT will only evaluate selection criterion #5 Supplemental Planning and Demonstration Activities for Implementation Grant applicants requesting funds to conduct supplemental planning and/or carry out demonstration activities. Two considerations will also be used in the selection process: Project Readiness, and Additional Considerations. The response to each criterion, to the extent practicable, should be aligned with the applicant's Action Plan. Below describes the specific content the applicant should respond to for each of these criteria.

Selection Criterion #1: Safety Impact

DOT will assess whether the proposal is likely to: significantly reduce or eliminate roadway fatalities and serious injuries; employ low-cost, high-impact strategies over a wide geographic area; and include evidence-based projects and strategies. Safety impact is the most important criterion and will be weighed more heavily in the review and selection process. The Department will assess the applicant's description of the safety problem, safety impact assessment, and costs as part of the Safety Impact criterion:

• Description of the safety problem. DOT will assess the extent to which:

○ The safety problem to be addressed is described, including historical trends, fatal and serious injury crash locations, contributing factors, and crash types by category of road user.

○ Crashes and/or crash risk are displayed in a High-Injury Network, hot spot analysis, or similar geospatial risk visualization.

○ Project and strategy locations are described in relation to the High-Injury Network and geospatial information.

○ Safety risk is summarized from risk models, hazard analysis, the identification of high-risk roadway features, road safety audits/assessments, near miss data, and/or other proactive safety analyses.

• Safety impact assessment. DOT will assess the extent to which projects and strategies:

○ Align with and comprehensively address the identified safety problems.

○ Are primarily on a High-Injury Network or address high-risk roadway features correlated with severe crash types.

○ Significantly reduce or eliminate roadway fatalities and serious injuries involving various road users.

○ Use low-cost, high-impact strategies and projects over a wide geographical area.

○ Use evidence-based, Proven Safety Countermeasures or other effective safety countermeasures to significantly improve existing roadways.²²

²² https://safety.fhwa.dot.gov/provencountermeasures/.

○ Use evidence-based Countermeasures that Work with four or five stars to address persistent behavioral safety issues and consider equity in their implementation.²³

²³ https://www.nhtsa.gov/sites/nhtsa.gov/files/2021-09/Countermeasures-10th_080621_v5_tag.pdf.

○ Measure safety impact through models, studies, reports, proven noteworthy practices, Crash Modification Factors (CMF), and other information on project and strategy effectiveness.

○ Will have safety benefits that persist over time.²⁴

²⁴ https://highways.dot.gov/safety/data-analysis-tools.

• Implementation Costs. DOT will assess the extent to which the projects and strategies:

○ Are itemized and summarized in a logical manner, including capital costs for infrastructure, behavioral, and operational safety improvements.

○ Fund locations with past traffic fatalities and serious injuries and is expected to prevent fatalities and serious injuries per funds requested. Injuries will be weighted and combined with fatalities to assess this figure in relation to the Federal funding request.²⁵

²⁵ The weighting will use the Benefit Cost Analysis Guidance 2023 Update: https://www.transportation.gov/sites/dot.gov/files/2023-01/Benefit%20Cost%20Analysis%20Guidance%202023%20Update.pdf. One fatality equals 20.9 serious injuries, or 55.2 injured severity unknowns.

Selection Criterion #2: Equity, Engagement, and Collaboration

This criterion supports the legislative requirements to assess the extent to which the application ensures the equitable investment in the safety needs of underserved communities and demonstrates engagement with a variety of public and private stakeholders. The response to this criterion should focus on equity, engagement, and collaboration in relation to the implementation of the projects and strategies. DOT will assess the extent to which projects and strategies:

• Ensure equitable investment in underserved communities in preventing roadway fatalities and serious injuries, including rural communities.

• Are designed to decrease existing disparities identified through equity analysis.

• Consider key population groups (e.g., people in underserved communities, children, seniors, Black, Latino, Indigenous and Native Americans, Asian Americans and Pacific Islanders, other persons of color, persons with disabilities, persons who live in rural areas, and persons otherwise adversely affected by persistent poverty or inequality) to ensure the impact to these groups is understood and addressed.

• Include equity analysis, both quantitative and qualitative, and stakeholder engagement in underserved communities as part of the development and implementation process.²⁶

²⁶ See Table 1 under “Equity Considerations” for what equity analysis entails.

• Include meaningful engagement with the public, including public involvement for underserved communities, community benefit agreements, and relevant stakeholders such as private sector and community groups, as part of implementation.

• Leverage partnerships within their jurisdiction, with other government entities, non-governmental organizations, the private sector, academic institutions, and/or other relevant stakeholders to achieve safety benefits while preventing unintended consequences for persons living in the jurisdiction.

• Inform representatives from areas impacted on implementation progress and meaningfully engage over time to evaluate the impact of projects and strategies on persons living in the jurisdiction.

• Align with the equity analysis performed as part of the development of an existing Action Plan.

Selection Criterion #3: Effective Practices and Strategies

DOT will assess the extent to which the applicant demonstrates how it applies policies, guidelines, standards, and practices to promote systemic safety improvements. DOT will assess the extent to which the projects and strategies reflect effective safety practices that:

• Demonstrate how updated policies, guidelines, and standards improve safety decision making.

• Are supported by an existing Complete Streets Policy that prioritizes safety in standard agency procedures and guidance, or other roadway safety policies that have eliminated barriers to prioritizing the safety of all users.

• Incorporate practices that promote efficiency within the planning and road management lifecycle (e.g., dig once, etc.).

• Consider the impacts of land use and the built environment to promote transportation efficient design.

• Leverage a Safe System Approach that uses multiple activities and interventions to address safety problems.

• Encompass at least three of the five Safe System Approach elements in the National Roadway Safety Strategy (Safer People, Safer Roads, Safer Speeds, Safer Vehicles, and Post-Crash Care) to address the identified safety problem.

• Include a mix of infrastructure, behavioral, operational, and/or post-crash safety activities.

• Involve widely implemented improvements based on high-risk roadway features correlated with particularly severe crash types, including design features that reinforce appropriate motor vehicle speeds.

• Incorporate technologies that promote safety and/or equity.

• Improve safety for all road users along a roadway by providing accessible facilities (e.g., Public-Rights-of-Way Accessibility Guidelines [PROWAG]) and correcting barriers to individuals with disabilities.²⁷

²⁷ https://www.access-board.gov/prowag/.

• Improve multimodal networks for people outside of a motor vehicle, including people who are walking, biking, rolling, public transit users, and have disabilities.

Selection Criterion #4: Other DOT Strategic Goals

This program's focus on equity and safety is also advanced by considerations of how applications address climate and sustainability considerations, as well as whether applications support economic competitiveness. DOT will assess the extent to which the projects and strategies use safety strategies to support the Departmental strategic goals of climate change, sustainability, workforce, and economic competitiveness, and the extent to which the proposal is expected to:

Climate and Sustainability

• Reduce motor vehicle-related pollution such as air pollution and greenhouse gas emissions.

• Increase safety of lower-carbon travel modes such as public transit, micromobility and active transportation (e.g., people biking and walking).

• Improve multimodal transportation systems that incorporate affordable transportation options such as public transit, micromobility, and active transportation such as walking and biking to transit stops and stations.

• Reduce the lifecycle greenhouse gas emissions from the project materials such as the use of lower-carbon pavement and construction materials.

• Support fiscally responsible land use and transportation efficient design that reduces greenhouse gas emissions through land use and zoning reform, rural main street revitalization, growth management, and equitable transit-oriented development.

• Includes evidence-based climate resilience measures or features such as enhanced storm water management practices, upgrading infrastructure using the Federal Flood Risk Management Standard, and nature-based solutions that improve the built and/or natural environment.

Economic Competitiveness

• Lead to increased economic or business activity due to enhanced safety features for all road users.

• Increase mobility and expand connectivity for all road users to critical community services such as education and healthcare, jobs, and business opportunities, especially for people in underserved communities.

• Address the unique challenges rural and Tribal communities face related to mobility and economic development, including isolation and transportation cost burden.

Workforce

• For skilled construction labor needed on the project, incorporate strong labor standards (e.g., wages and benefits at or above prevailing; use of project labor agreements, registered apprenticeship programs).

• For non-construction work on the project, commit to supporting training opportunities as part of the project, including pre-apprenticeship or apprenticeship readiness programs and youth service, with a description of how training and job opportunities on the project will lead into registered apprenticeship or good-paying jobs.

• Track and publish aggregate workforce data, including information on demonstrating that employment opportunities are available to historically underserved workers in the community.

• Include Local inclusive economic development and entrepreneurship such as utilization of Disadvantaged Business Enterprises, Minority-owned Businesses, Women-owned businesses, or 8(a) firms.

Selection Criterion #5: Supplemental Planning and Demonstration Activities

Implementation Grant applicants should only respond to this selection criterion if supplemental planning and/or demonstration activities are included in the application. DOT will assess whether the applicant has described the scope of supplemental planning or demonstration work to be performed; the roadway safety issues that necessitate further Action Plan development, including supplemental planning, and/or demonstration activities, as applicable; and how the funded activities will inform an Action Plan and support the identification of projects and strategies that will:

• Lead to a significant reduction or elimination of roadway fatalities and serious injuries involving various road users;

• Employ low-cost, high-impact strategies that can improve safety over a wider geographical area;

• Involve engaging with a variety of public and private stakeholders;

• Adopt innovative technologies to promote safety and equity; and

• Be evidence-based or build evidence around what works.

Applicants applying to carry out demonstration activities will also be assessed as to whether their approach to measuring the potential benefits of the demonstration activities through data collection and evaluation are described, and the extent to which the activities will be set up (e.g., quick builds on the roadway, pilot project established) within 18 months of executing a grant agreement.

Consideration: Project Readiness

Applications will be reviewed for Project Readiness, which will be a consideration for application selection. Project Readiness focuses on the extent to which the applicant will be able to substantially execute and complete the full scope of work in the Implementation Grant application within five (5) years of when the grant is executed. This includes information related to required design and construction standards, as well as environmental, permitting, and approval processes. DOT will evaluate the extent to which the application:

• Documents all applicable local, State, and Federal requirements.

• Includes information on activity schedule, required permits and approvals, the National Environmental Policy Act (NEPA) class of action and status, State Transportation Improvement Program (STIP) and Transportation Improvement Program (TIP) status (if applicable), public involvement, right-of-way acquisition plans, procurement schedules, multi-party agreements, utility relocation plans and risk and mitigation strategies, as appropriate.

• Is reasonably expected to begin any construction-related projects in a timely manner consistent with all applicable local, State, and Federal requirements.

Additional Considerations

The Department may consider the following when SS4A Implementation Grant awards:

• The percentage of Implementation Grant funds that will be spent in, and provide safety benefits to, locations in Census tracts designated as underserved communities as defined by this NOFO.²⁸

²⁸ See the definition of an underserved community, which includes Census tracts identified in the OMB CEJST and DOT ETCE tools.

• Whether the applicant is in a rural area.

• Whether the applicant is identified as a priority community within the federal Thriving Communities Network.²⁹

²⁹ Thriving Community Networks include the Rural Partner Network, Energy Communities, or DOT Thriving Communities Initiative.

• Whether the applicant would enhance the geographic diversity of Implementation Grant award recipients.

• Federal funding requests under $10 million.

2. Review and Selection Process

This section addresses the BIL requirement to describe the methodology for evaluation in the NOFO, including how applications will be rated according to selection criteria and considerations, and how those criteria and considerations will be used to assign an overall rating. The SS4A grant program review and selection process consists of eligibility reviews, merit criteria review, and Senior Review. The Secretary makes the final selections.

Among well-rated applicants, the Secretary may prioritize applicants and jurisdictions that did not receive an SS4A grant in FY 2022 over applicants that did receive an FY 2022 award. The Secretary may also prioritize applications that will use demonstration activities or supplemental planning as part of the development of, or update to, an Action Plan.

i. Planning and Demonstration Grant Review and Selection Process

(a) Overall Selection Process and Ratings

The process for the application review is described below:

Teams of Department and contractor support staff will review all applications to determine eligibility based on the eligibility information in Section C.

• Eligible Action Plan applications received by the deadline will be reviewed for their merit based on the selection criteria in Section E.1.i.

• If multiple applications are received from the same applicant, the last one submitted will be reviewed.

• Applications are rated numerically based on Merit Criteria #1 Safety Impact and #2 Equity Criteria.

• The #3 Additional Safety Context criterion narrative will be reviewed and assessed, and then receive a rating of “High,” “Medium,” “Low,” or “Not Qualified.” Applications that do not address the #3 Additional Safety Context are deemed “not qualified” and will not be considered for award.

• The Teams will note which of the three Planning and Demonstration Grant activities—develop a new Action Plan, conduct supplemental planning to update an existing plan, and carry out demonstration activities to inform the development or update of an Action Plan—are requested in an application.

• In order to ensure that final selections will meet the statutory requirement that no more than 15 percent of program funds may be awarded to eligible applicants in one State, applications will have their State location denoted. Awards to Federally recognized Tribal governments are not counted towards this 15 percent maximum.

• The Teams will examine the locations of the applicants to identify if an applicant is requesting funds in a geographic area that received an Action Plan Grant in FY 2022, as well as any potential overlap in geographic boundaries in funding requests for FY 2023. DOT will assess the extent to which the application is duplicative of existing or proposed activities and reserves the right to request applicants with duplicative funding requests to consolidate their efforts as one multijurisdictional group prior to receiving an award. DOT may decline to fund duplicative applications irrespective of their individual merits.

(b) Additional Safety Context Criterion Rating Methodology

For the #3 Additional Safety Context, the Department will assess the narrative's alignment to the selection criterion, and will determine a rating of “high,” “medium,” “low,” or “non-responsive.”

High | Medium | Low | Non-responsive
Rating Scale
The application is very responsive to the criteria and is expected to advance safety planning. The narrative has clear descriptions of the work scope and the roadway safety problem to be addressed. The proposed approach will strongly inform an Action Plan For demonstration activities only: The activities are likely to be put in place within 18 months. The narrative clearly describes how the activities will be measured and evaluated | The application is responsive to the criteria and is performing safety planning activities. The narrative has descriptions of the work scope and the roadway safety problem to be addressed. The proposed approach will inform an Action Plan For demonstration activities only: The activities have a possibility of being put in place within 18 months. The narrative describes how the activities will be measured and evaluated | The application is minimally responsive to the criteria. The proposed approach is weakly tied to an Action Plan For demonstration activities only: It is unclear if the activities will be put in place within 18 months. The narrative provides minimal detail on how the activities will be measured and evaluated | The narrative indicates the proposal is counter to the criteria, does not contain sufficient information, or is not connected to an Action Plan. For demonstration activities only: No timeline schedule is provided. Detail on how the activities will be measured and evaluated are not included.

ii. Implementation Grant Review and Selection Process

(a) Overall Selection Process and Ratings

Teams of Department and contractor support staff review all applications to determine whether they are eligible applicants based on the eligibility information in Section C. If multiple applications are received from the same applicant, the last one submitted will be reviewed. All eligible Implementation Grant applications received by the deadline will be reviewed and receive ratings for each of these criteria: #1 Safety Impact; #2 Equity, Engagement, and Collaboration; #3 Effective Practices and Strategies; #4 Other DOT Strategic Goals. Based on the criteria ratings, the Department will assign an overall application rating of “Highly Recommended,” “Recommended,” “Acceptable,” or “Not Recommended” as a result of evaluation team consensus discussion. The selection criteria are considered in numeric order of most to least important (e.g., criterion #1 Safety Impact will be considered most heavily, followed by #2 Equity, Engagement, and Collaboration as the second most important, etc.).

Implementation Grant applications that include supplemental planning or demonstration activities will also be reviewed for criterion #5 Additional Safety Context and quantitative Key Information Table information on fatality counts, fatality rate per 100,000 persons, and percentage of population in underserved communities, but it will not affect the overall Implementation Grant rating. Instead, DOT will use the information to determine whether the supplemental planning and/or demonstration activities should be funded as part of the overall project. DOT is more likely to fund, as part of an overall implementation project, supplemental planning and demonstration activities that rate well on criterion #5. Alternatively, DOT may award an Implementation Grant but exclude proposed supplemental planning or demonstration activities from the scope of the award if those activities were not rated well under criterion #5.

(b) Safety Impact Criterion Rating Methodology

For the #1 Safety Impact criterion, the Department will assess three subcomponents, and for each determine a rating of “high,” “medium,” and “low,” or “non-responsive.” The three subcomponents are: the description of the safety problem; the safety impact assessment; and the implementation costs.

The sub-ratings will use the guidelines below:

High | Medium | Low | Non-responsive
Description of the Safety Problem
The narrative and supporting information demonstrate the proposal is addressing a substantial safety problem. The narrative is well-articulated and is strongly supported by data and analysis. The narrative links the specific safety problem to relevant historical data at intervention locations and describes whether the locations are on their High-Injury Network or equivalent | The narrative and supporting information demonstrate the proposal is addressing an existing safety problem. Narrative articulates the description, is generally supported by data and analysis. The narrative links the specific safety problem to relevant historical data and refers to the High-Injury Network or equivalent | The narrative and supporting information demonstrate the proposal is addressing a safety problem more minor in scope. The narrative is not well-articulated, and the supporting data and analysis are limited. The narrative provides an overall connection between the safety problem and the jurisdiction's historical data | The narrative and supporting information do not address a safety problem.
Safety Impact
The projects and strategies have comprehensively addressed the safety problem. The projects and strategies proposed are highly effective, based on evidence, use a systemic approach, are mostly on a High-Injury Network, and have benefits that persist over time | The projects and strategies address the safety problem. Most of the projects and strategies proposed are effective measures, based on evidence, use a systemic approach, are at least partially on a High-Injury Network, and have benefits that persist over time | The projects and strategies address the safety problem to a limited degree. Some or none of the projects and strategies proposed are effective measures, based on evidence, use a systemic approach, or have benefits that persist over time | The projects and strategies do not address the safety problem.
Implementation Costs
The costs for the implementation of the projects and strategies are clearly articulated, well-summarized, and reasonable. The projects and strategies address locations that have many historical fatalities and serious injuries, and are expected to prevent a significant number of fatalities and serious injuries per funds requested | The costs for the implementation of the projects and strategies are summarized and appear to be reasonable. The projects and strategies address locations that have some historical fatalities and serious injuries, and are expected to prevent some fatalities and serious injuries per funds requested | The costs for the implementation of the projects and strategies are not well-articulated or missing key details, and it is uncertain whether the costs are reasonable. The projects and strategies address locations that have very few to no historical fatalities and serious injuries and may have minimal impact | Cost information and/or fatality and serious injury information at the location level are not provided.

(c) Other Criteria Rating Methodology

For the merit criteria #2 Equity, Engagement, and Collaboration, #3 Effective Practices and Strategies, and #4 Other DOT Strategic Goals, the Department will consider whether the application narrative is clear, direct, responsive to the selection criterion focus areas, logical, and includes specific details and examples, which will result in a rating of “high, “medium,” “low,” or “non-responsive.”

High | Medium | Low | Non-responsive
Rating Scale
The application is substantively responsive to the criteria, with clear, direct, and logical narrative. Compelling, specific details, as well as quantified or illustrative examples, are provided | The application is moderately responsive to the criteria, with mostly clear, direct, and logical narrative. Some details and examples are provided | The application is minimally responsive to the criteria and is somewhat addressed in the narrative. General information is provided | The narrative indicates the proposal is counter to the criteria or does not contain sufficient information.

All applications will receive a Project Readiness evaluation, as described below. The reviewers will use the application materials outlined in Section D to assess the applicant's Project Readiness and will provide a rating of either “Likely” or “Unlikely.”

Likely | Unlikely
Rating Scale
Based on the information provided in the application and the proposed scope of the projects and strategies, it is likely the applicant can complete all projects and strategies within a five-year time horizon. Application provides information on NEPA status, utility relocation, and right-of-way acquisition | Based on the information provided in the application and the proposed scope of the projects and strategies, it is uncertain whether the applicant can complete all projects and strategies within a five-year time horizon. Application is missing information on NEPA status, and whether utility relocation and/or right-of-way acquisition is required.

Implementation Grant applications that include supplemental planning and/or demonstration activities will be assessed on the extent to which the narrative aligns with the selection criterion #5 Additional Safety Context and will be evaluated to determine a rating of “high,” “medium,” “low,” or “non-responsive.”

High | Medium | Low | Non-responsive
Rating Scale
The application is very responsive to the criteria and is expected to advance safety planning. The narrative has clear descriptions of the work scope and the roadway safety problem to be addressed. The proposed approach will strongly inform an Action Plan For demonstration activities only: The activities are likely to be put in place within 18 months. The narrative clearly describes how the activities will be measured and evaluated | The application is responsive to the criteria and is performing safety planning activities. The narrative has descriptions of the work scope and the roadway safety problem to be addressed. The proposed approach will inform an Action Plan For demonstration activities only: The activities have a possibility of being put in place within 18 months. The narrative describes how the activities will be measured and evaluated | The application is minimally responsive to the criteria. The proposed approach is weakly tied to an Action Plan For demonstration activities only: It is unclear if the activities will be put in place within 18 months. The narrative provides minimal detail on how the activities will be measured and evaluated | The narrative indicates the proposal is counter to the criteria, does not contain sufficient information, or is not connected to an Action Plan. For demonstration activities only: The narrative provides no timeline schedule or detail on how the activities will be measured and evaluated.

iii. Senior Review Team Phase

(a) Planning and Demonstration Grant Senior Review Team Phase

For the Planning and Demonstration Grants, the Secretary will review the three quantitative criteria ratings as well as the rating from the Additional Safety Context and select projects that are most advantageous to the U.S. Government's interest. The Secretary will consult with a Senior Review Team (SRT) to make the determinations.

(b) Implementation Grant Senior Review Team Phase

Once every Implementation Grant application has been assigned an overall rating based on the methodology above, all “Highly Recommended” applications will be included in a list of Applications for Consideration. The SRT will also review all “Highly Recommended” applications that received an “Unlikely” project readiness rating, and either remove those applicants from the Applications for Consideration or recommend a reduced scope to remove components that reduced the project's readiness, so that if awarded the applicant would be likely to complete the scope of work within five years of the grant agreement execution. The Secretary will consider the applications with a reduced scope due to the Unlikely project readiness in the same way as applications with a “Likely” rating.

Additionally, to ensure the funding awards align to the extent practicable to the program goal of equitable investment in the safety needs of underserved communities, the SRT may review “Recommended” applications and set a threshold based on the percentage of funds that will be spent in, and provide safety benefits to, locations within underserved communities. Any “Recommended” applications at or above that threshold will be included in the proposed list of Applications for Consideration.

For applications that would not otherwise be included on the list of Applications for Consideration, the SRT may include applications with supplemental planning and demonstration activity funding that received a “High” rating for selection criterion #5 Additional Safety Context. The SRT may recommend the Secretary to fund a reduced scope of only the supplemental planning and demonstration activities for these applications.

For each grant type, the SRT will present the list of Applications for Consideration to the Secretary, either collectively or through a representative of the SRT. The SRT may advise the Secretary on any application on the list of Applications for Consideration, including options for reduced awards; the Secretary makes final selections. If an Implementation Grant application includes supplemental planning and demonstration activities, DOT may award just those activities as a standalone Planning and Demonstration Grant based on the rating received in selection criterion #5 Additional Safety Context. The Secretary's final selections identify the applications that best address program requirements and are most worthy of funding.

3. Additional Information

Prior to entering into a grant agreement, each selected applicant will be subject to a risk assessment as required by 2 CFR 200.206. The Department must review and consider any information about the applicant that is in the designated integrity and performance system accessible through SAM (currently the Federal Awardee Performance and Integrity Information System [FAPIIS]). An applicant may review information in FAPIIS and comment on any information about itself that a Federal awarding agency previously entered. The Department will consider comments by the applicant, in addition to the other information in FAPIIS, in making a judgment about the applicant's integrity, business ethics, and record of performance under Federal awards when completing the review of risk posed by applicants.

Because award recipients under this program may be first-time recipients of Federal funding, DOT is committed to implementing the program as flexibly as permitted by statute and to provide assistance to help award recipients through the process of securing a grant agreement and delivering both Planning and Demonstration Grant activities and Implementation Grant projects and strategies. Award recipients are encouraged to identify any needs for assistance in delivering the Implementation Grant projects and strategies so that DOT can provide directly, or through a third party, sufficient support and technical assistance to mitigate potential execution risks.

4. Anticipated Announcement and Federal Award Dates

The Department anticipates making two rounds of awards for this NOFO: one earlier round of awards only focused on applications requesting Planning and Demonstration Grants, and a later round of awards that will encompass Implementation Grants as well as Planning and Demonstration Grant applicants who did not receive funding in the earlier round. The earlier round is anticipated to be in October 2023, and the later round is anticipated to be in December 2023.

C. Federal Award Administration Information

1. Federal Award Notices

Following the evaluation outlined in Section E, the Secretary will announce awarded applications by posting a list of selected recipients. The posting of the list of selected award recipients will not constitute an authorization to begin performance. Following the announcement, the Department will contact the point of contact listed in the SF-424 to initiate negotiation of a grant agreement unless the applicant notifies DOT of a changed contact via SS4A@dot.gov after July 10.

2. Administrative and National Policy Requirements

i. Climate Change and Environmental Justice

Each applicant selected for SS4A grant funding must demonstrate effort to consider climate change and environmental justice impacts as described in Section A. Projects that have not sufficiently considered climate change and environmental justice in their planning, as determined by the Department, will be required to do so before receiving funds, consistent with Executive Order 14008, Tackling the Climate Crisis at Home and Abroad (86 FR 7619).

ii. Equity and Barriers to Opportunity

Each applicant selected for SS4A grant funding must demonstrate effort to improve equity and reduce barriers to opportunity as described in Section A. Projects that have not sufficiently considered equity and barriers to opportunity in their planning, as determined by the Department, will be required to do so before receiving funds, consistent with Executive Order 13985, Advancing Racial Equity and Support for Underserved Communities Through the Federal Government (86 FR 7009).

iii. Civil Rights and Title VI

As a condition of a grant award, grant recipients should demonstrate that the recipient has a plan for compliance with civil rights obligations and nondiscrimination laws, including Title VI of the Civil Rights Act of 1964 and implementing regulations (49 CFR 21), the Americans with Disabilities Act of 1990 (ADA), and Section 504 of the Rehabilitation Act, all other civil rights requirements, and accompanying regulations. This should include a current Title VI plan, completed Community Participation Plan, and a plan to address any legacy infrastructure or facilities that are not compliant with ADA standards. DOT's and the applicable Operating Administrations' Office of Civil Rights may work with awarded grant recipients to ensure full compliance with Federal civil rights requirements.

iv. National Environmental Policy Act of 1969 (NEPA)

Funding recipients must comply with NEPA under 42 U.S.C. 4321 et seq. and the Council on Environmental Quality's NEPA implementing regulations at 40 CFR 1500-1508, where applicable.

v. Domestic Preference Requirements

As expressed in Executive Order 14005, Ensuring the Future Is Made in All of America by All of America's Workers (86 FR 7475), it is the policy of the executive branch to maximize, consistent with law, the use of goods, products, and materials produced in, and services offered in, the United States. Infrastructure projects and demonstration activities are subject to the Build America, Buy America Act (Pub. L. 117-58, div. G sections 70901-70927) as clarified in OMB Memorandum M-22-11.³⁰ The Department expects all recipients to comply with this requirement. Projects under this notice will be subject to the domestic preference requirements at section 70914 of the Build America, Buy America Act.

³⁰ Public Law 117-58, division. G, title IX, subtitle A, 135 Stat. 429, 1298 (2021). For additional information on section 70914, see OMB-22-11. https://www.whitehouse.gov/wp-content/uploads/2022/04/M-22-11.pdf.

vi. Labor and Workforce

Each applicant selected for SS4A grant funding must demonstrate, to the full extent possible consistent with the law, an effort to create good-paying jobs with the free and fair choice to join a union and incorporation of high labor standards. To the extent that applicants have not sufficiently considered job quality and labor rights in their planning, as determined by the Department of Labor, the applicants will be required to do so before receiving funds, consistent with Executive Order 14025, Worker Organizing and Empowerment (86 FR 22829), and Executive Order 14052, Implementation of the Infrastructure Investment and Jobs Act (86 FR 64335).

vii. Federal Contract Compliance

As a condition of grant award and consistent with E.O. 11246, Equal Employment Opportunity (30 FR 12319, and as amended), all Federally assisted contractors are required to make good faith efforts to meet the goals of 6.9 percent of construction project hours being performed by women, in addition to goals that vary based on geography for construction work hours and for work being performed by people of color. Under Section 503 of the Rehabilitation Act and its implementing regulations, affirmative action obligations for certain contractors include an aspirational employment goal of 7 percent workers with disabilities.

The U.S. Department of Labor's Office of Federal Contract Compliance Programs (OFCCP) is charged with enforcing Executive Order 11246, Section 503 of the Rehabilitation Act of 1973, and the Vietnam Era Veterans' Readjustment Assistance Act of 1974. OFCCP has a Mega Construction Project Program through which it engages with project sponsors as early as the design phase to help promote compliance with non-discrimination and affirmative action obligations. OFCCP will identify projects that receive an award under this notice and are required to participate in OFCCP's Mega Construction Project Program from a wide range of Federally-assisted projects over which OFCCP has jurisdiction and that have a project cost above $35 million. DOT will require project sponsors with costs above $35 million that receive awards under this funding opportunity to partner with OFCCP, if selected by OFCCP, as a condition of their DOT award.

viii. Critical Infrastructure Security and Resilience

It is the policy of the United States to strengthen the security and resilience of its critical infrastructure against both physical and cyber threats. Each applicant selected for SS4A grant funding must demonstrate, prior to the signing of the grant agreement, effort to consider and address physical and cyber security risks relevant to the transportation mode and type and scale of the activities. Award recipients that have not appropriately considered and addressed physical and cyber security and resilience in their planning, design, and oversight, as determined by the Department and the Department of Homeland Security, will be required to do so before receiving Implementation Grant funds for construction, consistent with Presidential Policy Directive 21, Critical Infrastructure Security and Resilience and the National Security Presidential Memorandum on Improving Cybersecurity for Critical Infrastructure Control Systems. Additionally, funding recipients must be in compliance with 2 CFR 200.216 and the prohibition on certain telecommunications and video surveillance services or equipment.

ix. Other Administrative and Policy Requirements

All awards will be administered pursuant to the Uniform Administrative Requirements, Cost Principles and Audit Requirements for Federal Awards found in 2 CFR 200 as adopted by the Department at 2 CFR 1201. Additionally, as permitted under the requirements described above, applicable Federal laws, rules, and regulations of the relevant operating administration (e.g., the Federal Highway Administration, etc.) administering the activities will apply to the activities that receive SS4A grants, including planning requirements, Stakeholder Agreements, and other requirements under the Department's other highway and transit grant programs. DOT anticipates grant recipients to have varying levels of experience administering Federal funding agreements and complying with Federal requirements, and DOT will take a risk-based approach to SS4A program grant agreement administration to ensure compliance with all applicable laws and regulations.

In connection with any program or activity conducted with or benefiting from funds awarded under this notice, recipients of funds must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, recipients, in particular, must ensure that no concession agreements are denied, or other contracting decisions made on the basis of speech or other activities protected by the First Amendment. If the Department determines that a recipient has failed to comply with applicable Federal requirements, the Department may terminate the award of funds and disallow previously incurred costs, requiring the recipient to reimburse any expended award funds.

3. Reporting

i. Progress Reporting on Grant Activity

Reporting responsibilities include quarterly program performance reports using the Performance Progress Report (SF-PPR) and quarterly financial status using the SF-425 (also known as the Federal Financial Report or SF-FFR).³¹

³¹ https://www.grants.gov/forms/post-award-reporting-forms.html.

Budget and recipient performance information will be gathered on a quarterly basis in a Performance Progress Report (SF-PPR). To fulfill the data collection requirements and in accordance with the USDOT Public Access Plan, award recipients must consider, budget for, and implement appropriate data management, for data and information outputs acquired or generated during the course of the grant.32 33 Federally recognized Tribal governments receiving grants may request alternative data collection requirements during grant agreement formulation, as appropriate. Applicants are expected to account for data and performance reporting in their budget submission.

³² https://doi.org/10.21949/1520559.

³³ United States. Department of Transportation. (2022) DOT Public Access [Home page]. https://doi.org/10.21949/1503647.

ii. Post Award Reporting Requirements/Reporting of Matters Related to Integrity and Performance

All award recipients shall submit a report by the end of the period of performance that describes:

• The costs of each eligible project and strategy carried out using the grant;

• The roadway safety outcomes and any additional benefits (e.g., increased walking, biking, or transit use without a commensurate increase in serious and fatal crashes, etc.) that each such project and strategy has generated, as—

○ Identified in the grant application; and

○ Measured by data, to the maximum extent practicable;

• The percent of funds spent in, and providing benefits to, underserved communities; and

• The lessons learned and any recommendations relating to future projects or strategies to prevent death and serious injury on roads and streets.

Implementation Grant recipients must also provide: geo-coordinate information identifying specific project location(s); crash data on serious injury and fatalities in the locations where projects and strategies are implemented on an annual basis and at the end of the period of performance, which are expected to include crash characteristics and contributing factor information associated with the safety problems being addressed; and quantitative and qualitative project benefits documented in a final report.

Award recipients carrying out demonstration activities must also measure potential benefits through data collection and evaluative activities and report to the Department how the demonstration activities informed an Action Plan's list of projects and strategies and future implementation.

If the total value of a selected applicant's currently active grants, cooperative agreements, and procurement contracts from all Federal awarding agencies exceeds $10,000,000 for any period of time during the period of performance of this Federal award, then the applicant during that period of time must maintain the currency of information reported in SAM that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available. Additionally, if applicable funding recipients must be in compliance with the audit requirements in 2 CFR 200, subpart F.

iii. Program Evaluation

As a condition of grant award, SS4A grant recipients may be required to participate in an evaluation undertaken by DOT, or another agency or partner. The evaluation may take different forms such as an implementation assessment across grant recipients, an impact and/or outcomes analysis of all or selected sites within or across grant recipients, or a benefit/cost analysis or assessment of return on investment. The Department may require applicants to collect data elements to aid the evaluation and/or use information available through other reporting. As a part of the evaluation, as a condition of award, grant recipients must agree to: (1) make records available to the evaluation contractor; (2) provide access to program records, and any other relevant documents to calculate costs and benefits; (3) in the case of an impact analysis, facilitate the access to relevant information as requested; and (4) follow evaluation procedures as specified by the evaluation contractor or DOT staff.

Recipients and sub-recipients are also encouraged to incorporate program evaluation including associated data collection activities from the outset of their program design and implementation to meaningfully document and measure the effectiveness of their projects and strategies. Title I of the Foundations for Evidence-Based Policymaking Act of 2018 (Evidence Act), Public Law 115-435 (2019) urges Federal awarding agencies and Federal assistance recipients and sub-recipients to use program evaluation as a critical tool to learn, to improve equitable delivery, and to elevate program service and delivery across the program lifecycle. Evaluation means “an assessment using systematic data collection and analysis of one or more programs, policies, and organizations intended to assess their effectiveness and efficiency” (codified at 5 U.S.C. 311). For grant recipients, evaluation expenses are allowable costs (either as direct or indirect), unless prohibited by statute or regulation, and such expenses may include the personnel and equipment needed for data infrastructure and expertise in data analysis, performance, and evaluation (2 CFR 200).

D. Federal Awarding Agency Contacts

For further information concerning this notice, please contact the Office of the Secretary via email at SS4A@dot.gov. In addition, up to the application deadline, the Department will post answers to common questions and requests for clarifications on the Department's website at https://www.transportation.gov/grants/SS4A. To ensure applicants receive accurate information about eligibility or the program, the applicant is encouraged to contact the Department directly, rather than through intermediaries or third parties, with questions. Department staff may also conduct briefings on the SS4A grant selection and award process upon request.

E. Other Information

1. Publication of Application Information

Following the completion of the selection process and announcement of awards, the Department intends to publish a list of all applications received along with the names of the applicant organizations and a few relevant data fields from the application. This includes unsuccessful applicants. The Department may share application information within the Department or with other Federal agencies if the Department determines that sharing is relevant to the respective program's objectives.

2. Department Feedback on Applications

The Department will not review applications in advance, but Department staff are available for technical questions and assistance. DOT expects to hold “virtual-office hours” to further describe how to submit a complete application; for more information visit https://www.transportation.gov/grants/SS4A. The deadline to submit technical questions is June 16, 2023. The Department strives to provide as much information as possible to assist applicants with the application process. Unsuccessful applicants may request a debrief up to 30 days after the selected funding recipients are publicly announced on https://www.transportation.gov/grants/SS4A. Program staff will address questions to SS4A@dot.gov throughout the application period.

3. Grant Application Resources

The Department will provide resources to help interested applicants understand the different DOT discretionary grant programs through webinars, frequently asked questions, and other materials provided such as the SS4A program website https://www.transportation.gov/grants/SS4A. Additional grant applications resources for this and other Departmental grant programs can be found on the DOT Navigator at www.transportation.gov/dot-navigator. User-friendly information and resources regarding DOT's discretionary grant programs relevant to rural applicants can be found on the Rural Opportunities to Use Transportation for Economic Success (ROUTES) website at www.transportation.gov/rural.

[FR Doc. 2023-07716 Filed 4-11-23; 8:45 am]

BILLING CODE 4910-9X-P